DEPARTMENT OF JUSTICE

Antitrust Division

Notice Pursuant to the National Cooperative Research and Production Act of 1993—Semiconductor Research Corporation

Notice is hereby given that, on January 26, 2001, pursuant to section 6(a) of the National Cooperative Research and Production Act of 1993, 15 U.S.C. 4301 et seq. (“the Act”), Semiconductor Research Corporation has filed written notifications simultaneously with the Attorney General and the Federal Trade Commission disclosing changes in its membership status. The notifications were filed for the purpose of extending the Act's provisions limiting the recovery of antitrust plaintiffs to actual damages under specified circumstances. Specifically, Conexant Systems, Newport Beach, CA; United Microelectronics Corporation Group of Taiwan, Hsin-Chu City, TAIWAN; Integrated Systems Engineering, Inc., San Jose, CA; Genus, Inc., Sunnyvale, CA; Torrex Equipment Corporation, Livermore, CA; and Ziptronix, Inc., Research Triangle, NC have been added as parties to the venture. In addition, Etec Systems, Inc., Hayward, CA; Harris Corporation, Melbourne, FL; Microbar Incorporated, Sunnyvale, CA; Northrop Grumman, Los Angeles, CA; Omniview, Inc., Pittsburgh, PA; Suss Advanced Lithography, Inc., Burlington, VT; and Verity Instruments, Inc., Carrollton, TX have been dropped as parties to the venture.

No other changes have been made in either the membership or planned activity of the group research project. Membership in this group research project remains open, and Semiconductor Research Corporation intends to file additional written notification disclosing all changes in membership.

On January 7, 1985, Semiconductor Research Corporation filed its original notification pursuant to section 6(a) of the Act. The Departent of Justice published a notice in the Federal Register pursuant to section 6(b) of the Act on January 30, 1985 (50 FR 4281).

The last notification was filed with the Department on August 4, 1999. A notice was published in the Federal Register pursuant to section 6(b) of the Act on December 14, 1999 (64 FR 69800).

Constance K. Robinson,
Director of Operations, Antitrust Division.

[FR Doc. 01-5717 Filed 3-7-01; 8:45 am]

BILLING CODE 4410-11-M